DEPARTMENT OF DEFENSE

Department of the Air Force

Air Force Institute of Technology Subcommittee of the Air University Board of Visitors

AGENCY: Department of the Air Force, DoD.

ACTION: Notice of meeting.

SUMMARY: The Air Force Institute of Technology Subcommittee of the Air University Board of Visitors will hold an open meeting at Wright-Patterson Air Force Base, Ohio. (5 seats available). The purpose of the meeting is to give the board an opportunity to review Air Force Institute of Technology's educational programs and to present to the Commandant a report of their findings and recommendations concerning these programs.

DATES: March 17-19, 2002.

ADDRESSES: Commandant's Conference Room, Building 125, Wright-Patterson Air Force Base, Ohio.

FOR FURTHER INFORMATION CONTACT: Ms. Beverly Houtz in the Directorate of Resources, Air Force Institute of Technology, (937) 255-5760.

Pamela D. Fitzgerald,
Air Force Federal Register Liaison Officer.

[FR Doc. 02-4885 Filed 2-28-02; 8:45 am]

BILLING CODE 5001-05-P